Proclamation 8663 of April 29, 2011

Older Americans Month, 2011

By the President of the United States of America

A Proclamation

Older Americans are now living longer, healthier, and richer lives than ever before. As the eldest of the baby boomers turn 65, our Nation can look forward to the contributions of a new generation of American seniors. Each year, we set aside the month of May to honor older Americans, celebrate their role in steering the course of our history, and recognize their valuable insights and wisdom.

The theme for this year’s Older Americans Month, “Older Americans: Connecting the Community,” reminds us that seniors are continually enriching lives and contributing to our country. This theme also highlights how technology, including social media and assistive devices, can help adults remain engaged in their communities and connected to friends and family who may live far away.

My Administration is committed to meeting the needs and aspirations of American seniors, both now and in the future. We are working to improve the health and well-being of older men and women with a focus on preventive care and community living. The historic Affordable Care Act gives America’s seniors greater freedom and control over their health care. In addition to benefitting from more comprehensive prescription drug coverage, most people with Medicare will now be able to receive an annual wellness visit and many critical preventive services for free, including certain cancer screenings such as mammograms and colonoscopies.

Today, millions of our Nation’s seniors are making a significant difference in society, strengthening our communities through their service. Older Americans support the arts and serve meals at soup kitchens. They mentor our children and stock the shelves at food pantries and libraries. Programs supported by the Corporation for National and Community Service and the Administration on Aging are working to connect men and women to community service, benefiting Americans of all ages. Interested individuals can visit www.SeniorCorps.gov for more information and local volunteer opportunities.

Having lived through many of our Nation’s most challenging times, older Americans have shaped the story of America and secured the promise of our future. We are privileged to recognize these treasured citizens during Older Americans Month, and honor both the impact they have made and their accomplishments yet to come.

NOW, THEREFORE, I, BARACK OBAMA, President of the United States of America, by virtue of the authority vested in me by the Constitution and the laws of the United States, do hereby proclaim May 2011 as Older Americans Month. I invite Americans of all ages to acknowledge the contributions of older Americans during this month and throughout the year.

IN WITNESS WHEREOF, I have hereunto set my hand this twenty-ninth day of April, in the year of our Lord two thousand eleven, and of the Independence of the United States of America the two hundred and thirty-fifth.

[FR Doc. 2011-11066

Filed 5-4-11; 8:45 am]

Billing code 3195-W1-P